SMALL BUSINESS ADMINISTRATION

[Disaster Declaration #16485 and #16486; California Disaster Number CA-00319]

Administrative Declaration of a Disaster for the State of California

AGENCY: U.S. Small Business Administration.

ACTION: Notice.

SUMMARY: This is a notice of an Administrative declaration of a disaster for the State of California dated 06/17/2020.

Incident: Civil Unrest.

Incident Period: 05/26/2020 and continuing.

DATES: Issued on 06/17/2020.

Physical Loan Application Deadline Date: 08/17/2020.

Economic Injury (EIDL) Loan Application Deadline Date: 03/17/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the Administrator's EIDL declaration, applications for economic injury disaster loans may be filed at the address listed above or other locally announced locations.

The following areas have been determined to be adversely affected by the disaster:

Primary Counties: Los Angeles.

Contiguous Counties:

California: Kern, Orange, San Bernardino, Ventura.

The Interest Rates are:

| Percent
For Physical Damage:
Homeowners With Credit Available Elsewhere | 2.500
Homeowners Without Credit Available Elsewhere | 1.250
Businesses With Credit Available Elsewhere | 6.000
Businesses Without Credit Available Elsewhere | 3.000
Non-Profit Organizations With Credit Available Elsewhere | 2.750
Non-Profit Organizations Without Credit Available Elsewhere | 2.750
For Economic Injury:
Businesses & Small Agricultural Cooperatives Without Credit Available Elsewhere | 3.000
Non-Profit Organizations Without Credit Available Elsewhere | 2.750

The number assigned to this disaster for physical damage is 16485 F and for economic injury is 16486 0.

The State which received an EIDL Declaration # is California.

(Catalog of Federal Domestic Assistance Number 59008)

Jovita Carranza,
Administrator.

[FR Doc. 2020-13514 Filed 6-23-20; 8:45 am]

BILLING CODE 8026-03-P